DEPARTMENT OF THE TREASURY

Submission for OMB Review; Comment Request

May 15, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 29, 2001 to be assured of consideration.

Internal Revenue Service (IRS)

OMB Number: 1545-0041.

Form Number: IRS Form 966.

Type of Review: Revision.

Title: Corporate Dissolution or Liquidation.

Description: Form 966 is filed by a corporation whose shareholders have agreed to liquidate the corporation. As a result of the liquidation, the shareholders receive the property of the corporation in exchange for their stock. The IRS uses Form 966 to determine if the liquidation election was properly made and if any taxes are due on the transfer of property.

Respondents: Business or other for-profit.

Estimated Number of Respondents/Recordkeepers: 26,000.

Estimated Burden Hours Per Respondent/Recordkeeper:

Recordkeeping—5 hr., 1 min.

Learning about the law or the form—24 min.

Preparing and sending the form to the IRS—29 min.

Frequency of Response: On occasion.

Estimated Total Reporting/Recordkeeping Burden: 153,920 hours.

OMB Number: 1545-0754.

Regulation Project Number: LR-255-81 Final.

Type of Review: Extension.

Title: Substantiation of Charitable Contributions.

Description: Congress intended that the IRS prescribe rules and requirements to assure substantiation and verification of charitable contributions. The regulations serve these purposes.

Respondents: Individuals or households, Business or other for-profit.

Estimated Number of Recordkeepers: 26,000,000.

Estimated Burden Hours Per Recordkeeper: 5 minutes.

Estimated Total Reporting/Recordkeeping Burden: 2,158,000 hours.

OMB Number: 1545-0782

Regulation Project Number: LR-7 Final (TD 6629).

Type of Review: Extension.

Title: Limitation on Reduction in Income Tax Liability Incurred to the Virgin Islands.

Description: The Tax Reform Act of 1986 repealed the mandatory reporting and recordkeeping requirements of section 934(d) (1954 Code). The prior exception to the general rule of section 934 (1954 Code) to prevent the Government of the Virgin Islands from granting tax rebates with regard to taxes attributable to income derived from sources with the United States was contingent upon the taxpayers' compliance with the reporting requirements of section 934(d).

Respondents: Individuals or households, Business or other for-profit.

Estimated Number of Respondents/Recordkeepers: 500.

Estimated Burden Hours Per Respondent/Recordkeeper: 22 minutes.

Frequency of Response: On occasion.

Estimated Total Reporting/Recordkeeping Burden: 184 hours.

OMB Number: 1545-1138.

Regulation Project Number: INTL-955-86 Final (TD 8350).

Type of Review: Extension.

Title: Requirements for Investments to Qualify Under Section 936(d)(4) As Investments in Qualified Caribbean Basin Countries.

Description: The collection of information is required by the Internal Revenue Service to verify that an investment qualifies under Internal Revenue Code (IRC) section 936(d)(4). The recordkeepers will be possession corporations, certain financial institutions located in Puerto Rico, and borrowers of funds covered by this regulation.

Respondents: Business or other for-profit.

Estimated Number of Recordkeepers: 50.

Estimated Burden Hours Per Recordkeeper: 30 hours.

Estimated Total Recordkeeping Burden: 1,500 hours.

OMB Number: 1545-1443.

Regulation Project Number: PS-25-94 Final (TD 8686).

Type of Review: Extension.

Title: Requirements to Ensure Collection of Section 2050A Estate Tax.

Description: The regulation provides guidance relating to the additional requirements necessary to ensure the collection of the estate of tax imposed under Section 2056A(b) with respect to taxable events involving qualified domestic trusts (QDOT'S). In order to ensure collection of the tax, the regulation provides various security options that may be selected by the trust and the requirements associate with each option. In addition, under certain circumstances the trust is required to file an annual statement with the IRS disclosing assets held by the trust.

Respondents: Individuals or households.

Estimated Number of Respondents: 4,390.

Estimated Burden Hours Per Respondent: 1 hour, 23 minutes.

Frequency of Response: On occasion, Annually.

Estimated Total Reporting Burden: 6,070 hours.

Clearance Officer: Garrick Shear, Internal Revenue Service, Room 5244, 1111 Constitution Avenue, NW., Washington, DC 20224

OMB Reviewer: Alexander T. Hunt (202) 395-7860,Office of Management and Budget, Room 10202, New Executive Office Building, Washington, DC 20503

Lois K. Holland,
Departmental Reports Management Officer.

[FR Doc. 01-13470 Filed 5-29-01; 8:45 am]

BILLING CODE 4830-01-P